AGENCY FOR INTERNATIONAL DEVELOPMENT

Board for International Food and Agricultural Development; Notice of Meeting

Pursuant to the Federal Advisory Committee Act, notice is hereby given of a public meeting of the Board for International Food and Agricultural Development (BIFAD), Agricultural Growth, Economic Transformation, and the Journey to Self-Reliance: Implications for USAID Programming. The meeting will be held on October 13, 2020 from 1:00 p.m. to 3:30 EDT online. A public comment period is scheduled from 3:00 to 3:20 p.m., EDT. The meeting will be livestreamed via Zoom (registration required) and accessible at http://www.aplu.org/projects-and-initiatives/international-programs/bifad/bifad-meetings.html.

The U.S. Agency for International Development (USAID) is reorienting its strategies, partnership models, and program practices to achieve greater development outcomes and strive toward a future where foreign assistance is no longer necessary. The approach, outlined in the Agency's Policy Framework,¹ emphasizes the concept of “self-reliance” ²—defined as the capacity and commitment of a country to plan, finance, and implement solutions to solve its own development challenges in an effective, inclusive, and accountable way.

¹ https://www.usaid.gov/policyframework.

² https://www.usaid.gov/selfreliance.

The Board for International Food and Agricultural Development (BIFAD) will convene a public meeting to better understand the concept of economic transformation—how underdeveloped and agrarian-based countries shift from subsistence agriculture to a commercially oriented economy with diverse agricultural, manufacturing, and service sectors—and how it contributes to a country's resilience to shocks, such as COVID-19, and its progression toward self-reliance. Authors of a BIFAD-commissioned study will share preliminary findings and lessons learned on emerging success stories in agricultural productivity-led economic transformation and will discuss the implications of this evidence for USAID's agricultural and food security development and social safety net priorities and programming.

On the basis of testimony, including public comments, shared at the meeting, BIFAD will provide formal findings, conclusions, and recommendations to the Agency on best-bet operational and programmatic investments for catalyzing agricultural productivity and economic transformation.

BIFAD is a seven-member, presidentially appointed advisory board to USAID established in 1975 under Title XII of the Foreign Assistance Act, as amended. The provisions of Title XII concern bringing assets of U.S. universities to bear on development challenges in agriculture and food security, and the BIFAD's role is to help carry out this function.

For questions about registration, please contact Jordan Merker at (202) 478-6087. For questions about BIFAD, please contact Clara Cohen, Designated Federal Officer for BIFAD in the Bureau for Resilience and Food Security at USAID. Interested persons may email her at ccohen@usaid.gov or telephone her at (202) 712-0119.

Clara Cohen,
Designated Federal Officer, BIFAD.

[FR Doc. 2020-20729 Filed 9-18-20; 8:45 am]

BILLING CODE P